DEPARTMENT OF COMMERCE

International Trade Administration

[C-570-999]

1,1,1,2-Tetrafluoroethane from the People's Republic of China: Notice of Postponement of Preliminary Determination in the Countervailing Duty Investigation

AGENCY: Enforcement and Compliance, formerly Import Administration, International Trade Administration, Department of Commerce.

DATES: Effective Date: January 17, 2014.

FOR FURTHER INFORMATION CONTACT: Katie Marksberry or Josh Startup, AD/CVD Operations, Office V, Enforcement and Compliance, U.S. Department of Commerce, 14th Street and Constitution Avenue NW., Washington, DC 20230; telephone: 202-482-7906 and 202-482-5260, respectively.

SUPPLEMENTARY INFORMATION:

Background

On December 2, 2013, the Department of Commerce (“Department”) initiated the countervailing duty investigation of 1,1,1,2-Tetrafluoroethane from the People's Republic of China.¹ Currently, the preliminary determination is due no later than February 5, 2014.

¹ See 1,1,1,2- Tetrafluoroethane from the People's Republic of China: Initiation of Countervailing Duty Investigation, 78 FR 73839 (December 9, 2013).

Postponement of Due Date for Preliminary Determination

Section 703(b)(1) of the Tariff Act of 1930, as amended (“the Act”), requires the Department to issue the preliminary determination in a countervailing duty investigation within 65 days after the date on which the Department initiated the investigation. However, the Department may postpone making the preliminary determination until no later than 130 days after the date on which the administering authority initiated the investigation if the petitioner makes a timely request for an extension pursuant to section 703(c)(1)(A) of the Act. In the instant investigation, the petitioner made a timely request on January 7, 2014, requesting a postponement of the preliminary determination pursuant to 19 CFR 351.205(b)(2).² Therefore, pursuant to the discretion afforded the Department under section 703(c)(1)(A) of the Act and because the Department does not find any compelling reason to deny the request, we are fully postponing the due date until 130 days after the Department's initiation for the preliminary determination. Therefore, the deadline for the completion of the preliminary determination is now April 11, 2014.

² See 19 CFR 351.205(e) and the petitioner's January 7, 2014 letter requesting postponement of the preliminary determination.

This notice is issued and published pursuant to section 703(c)(2) of the Act and 19 CFR 351.205(f)(1).

Dated: January 13, 2014.
Christian Marsh,
Deputy Assistant Secretary for Antidumping and Countervailing Duty Operations.

[FR Doc. 2014-00947 Filed 1-16-14; 8:45 am]

BILLING CODE 3510-DS-P